DEPARTMENT OF HEALTH AND HUMAN SERVICES

Substance Abuse and Mental Health Services Administration

Funding Opportunity Title: Notice of Funding Availability (NOFA) for the National Center for Child Traumatic Stress of the National Child Traumatic Stress Initiative (Short Title: NCTSI—National Center)

Announcement Type: Initial.

Funding Opportunity Number: SM 04-008.

Catalog of Federal Domestic Assistance (CFDA) Number: 93.243.

Due Date for Application: June 10, 2004.

Note: Letters from State Single Point of Contact (SPOC) in response to E.O. 12372 are due August 9, 2004.

SUMMARY: The Substance Abuse and Mental Health Services Administration (SAMHSA), Center for Mental Health Services (CMHS), announces the availability of FY 2004 funds for the National Center for Child Traumatic Stress of the National Child Traumatic Stress Initiative. A synopsis of this funding opportunity, as well as many other Federal Government funding opportunities, are also available at the Internet site: http://www.grants.gov.

For complete instructions, potential applicants must obtain a copy of SAMHSA's standard Infrastructure Grant Program Announcement (INF-04 PA [MOD]), and the PHS 5161-1 (Rev. 7/00) application form before preparing and submitting an application. The INF-04 PA (MOD) describes the general program design and provides instructions for applying for all SAMHSA Infrastructure Grants, including the National Center for Child Traumatic Stress of the National Child Traumatic Stress Initiative. Additional instructions and specific requirements for this funding opportunity are described below.

I. Funding Opportunity Description

Authority: Section 582 of the Public Health Service Act, as amended and subject to the availability of funds.

The National Center for Child Traumatic Stress of National Child Traumatic Stress Initiative (NCTSI—National Center) is one of SAMHSA's Infrastructure Grants. SAMHSA's Infrastructure Grants provide funds to increase the capacity of mental health and/or substance abuse services systems to support effective programs and services. The purpose of the NCTSI—National Center grant is to support funding of a national coordinating center for the NCTSI network that will provide leadership, coordination, and support for collaboration of the NCTSI centers. The national coordinating center will develop and implement a framework and organizational procedures for communication and collaboration among Network centers to promote and sustain a comprehensive approach to identifying, improving, developing, and/or evaluating child trauma treatment interventions and services approaches. The national coordinating center will further develop the national capacity for training in implementing effective treatment and service delivery and develop and disseminate informational resources and other products on child and adolescent traumatic stress to professionals, policy makers, and the public.

In providing leadership for the national Network, the national coordinating center will implement the framework and organizational procedures for communication and collaboration among Network centers. This program will also enable the national coordinating center to coordinate and integrate centers funded subsequent to the original cohort into the Network. The functions of the national coordinating center are to:

• Provide leadership to the Network and strengthen the Network's ability to support high-priority, results-oriented collaborative projects that are essential for the success of the Initiative;

• Oversee and coordinate the core activities of the Network (Data, Learning from Research and Clinical Practice, Service Systems, Training and Policy) to collect, organize, screen, review, and disseminate existing or new resource materials on child and adolescent traumatic stress for professionals, policy makers, and the public;

• Coordinate the Steering Committee for the Network;

• Promote, facilitate, and support targeted collaborative activities among all centers, by building incentives for Network centers to achieve productive collaboration on high-priority projects, and creating management structures that makes it easier for Network members to work with one another;

• Provide technical assistance to Network members, policy makers and the public, utilizing intra-Network expertise as well as external consultants;

• Work in partnership to help CMHS monitor and evaluate all internal and external Network collaborative activities for relevance, efficiency, effectiveness, and impact on the main goals of the Initiative;

• Develop customized training materials, organize training events, and disseminate training curricula developed by Network members; and

• Communicate and market Network activities through the use of multiple media, including Web-based technology, and develop a national media strategy and global marketing plan that reaches out to other professional and government constituent organizations.

Background: In recognition of the serious impact that trauma can have on children, Congress in FY2001 authorized CMHS to develop a grant program focusing on improving treatment and services for psychological trauma in children and youth through development of knowledge and evidence-based practices for treating trauma-related psychiatric disorders. To develop a grant program that would adequately address the Congressional intent, CMHS established the National Child Traumatic Stress Initiative (NCTSI) consisting of a network of three types of centers: (1) A national coordinating center, the National Center for Child Traumatic Stress (NCCTS) that provides the vision, national leadership, and overall organizing and coordinating expertise for the NCTSI; (2) Intervention Development and Evaluation Centers (IDECs) that develop and assess interventions for different types of trauma and for different populations of children and adolescents who have experienced trauma; and (3) Community Treatment and Services Centers (CTSCs) that provide community-based treatment for trauma. This network of centers works collaboratively to address the most important issues in treatment and service delivery for traumatized children and adolescents. The collaborative activities implemented under this novel structure permit improvement in treatment and services to traumatized children on a national scale, beyond the individual reach of each of the grantees.

II. Award Information

1. Estimated Funding Available/Number of Awards: It is expected that up to $5 million will be available to fund one award in FY 2004. This will be a Category I-Comprehensive Infrastructure Grant award, as described in the INF-04 PA (MOD). This Category I award will be up to $5 million in total costs (direct and indirect) for one year, rather than the funding amount and funding period specified in the INF-04 PA (MOD). The proposed budget cannot exceed the allowable amount. The actual amount available for the award may vary, depending on unanticipated program requirements.

2. Funding Instrument: Cooperative Agreement

Role of Federal Staff:

• Consult with the National Center Directors on all phases of the project to ensure accomplishment of the goals of the Initiative;

• Review critical project activities for conformity to the mission of the NCTSI;

• Assume overall responsibility for monitoring the conduct and progress of the NCTSI programs;

• Make recommendations regarding continued funding;

• Provide guidance on project design and components;

• Participate in policy and steering groups or related work groups;

• Review quarterly reports and conduct site visits, if warranted;

• Oversee development and implementation of multi-site evaluation in partnership with evaluation contractors, NCCTS staff and other NCTSI grantees;

• Approve data collection plans and institute policies regarding data collection;

• Submit required clearance packages to the Office of Management and Budget (OMB) using information and materials provided by the grantee;

• Recommend outside consultants for training, site-specific evaluation, and data collection, if needed;

• Author or co-author publications on program findings; and

• Provide technical assistance on ways to help disseminate and apply study results.

Role of Awardee:

• Comply with the terms of the award and satisfactorily perform activities to achieve the NCTSI goals;

• Consult with and accept guidance from CMHS staff on performance of activities to achieve NCTSI goals;

• Consult with SAMHSA staff and outside consultants on evaluation plans. Assist in evaluation of network activities and program outcome evaluation;

• Provide SAMHSA with justifications and materials for clearance of data collection and analysis activities by the Office of Management and Budget (OMB);

• Support and participate in network meetings;

• Respond to requests for information from CMHS;

• Agree to provide SAMHSA with data required for the Government Performance and Results Act (GPRA);

• As appropriate, support and disseminate intervention products, training materials, and other publications developed by the NCTSN for use by the field; and

• Produce required SAMHSA reports.

III. Eligibility Information

1. Eligible Applicant: The current National Center for Child Traumatic Stress is the only entity eligible to apply for funding under this announcement. This eligibility criterion supersedes the criteria specified in Section III-1 of the INF-04 PA (MOD). SAMHSA/CMHS plans to award an additional year to the current National Center for Child Traumatic Stress (which received its last year of grant funding at the end of FY 2003) so that the necessary coordination of the current grantees' work can continue, while changes to the overall National Child Traumatic Stress Initiative are planned. In FY 2005, SAMHSA/CMHS plans to announce a new, competitive funding opportunity for a National Center for Child Traumatic Stress.

2. Cost Sharing or Matching is not required.

3. Other: The applicant must also meet certain application formatting and submission requirements or the application will be screened out and will not be reviewed. These requirements are described in Section IV-2 below as well as in the INF-04 PA (MOD).

IV. Application and Submission Information

1. Address to Request Application Package: Complete application kits may be obtained from: the National Mental Health Information Center at 1-800-789-2647. When requesting an application kit for this program, the applicant must specify the funding opportunity title (NCTSI—National Center) and the funding opportunity number (SM 04-008). All information necessary to apply, including where to submit applications and application deadline instructions, is included in the application kit. The PHS 5161-1 application form is also available electronically via SAMHSA's World Wide Web Home Page: http://www.samhsa.gov (click on ‘Grant Opportunities’) and the INF-04 PA (MOD) is available electronically at http://www.samhsa.gov/grants/2004/standard/Infrastructure/index.asp.

When submitting an application, be sure to type “SM 04-008, NCTSI—National Center” in Item Number 10 on the face page of the application form. Also, SAMHSA applicants are required to provide a DUNS Number on the face page of the application. To obtain a DUNS Number, access the Dun and Bradstreet Web site at http://www.dunandbradstreet.com or call 1-866-705-5711.

2. Content and Form of Application Submission: Additional information including required documents, required application components, and application formatting requirements is available in the INF-04 PA (MOD) in Section IV-2.

Checklist for Formatting Requirements and Screen Out Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review.

❑ Use the PHS 5161-1 application.

❑ Applications must be received by the application deadline. Applications received after this date must have a proof of mailing date from the carrier dated at least 1 week prior to the due date. Private metered postmarks are not acceptable as proof of timely mailing. Applications not received by the application deadline or not postmarked at least 1 week prior to the application deadline will not be reviewed.

❑ Information provided must be sufficient for review.

❑ Text must be legible.

• Type size in the Project Narrative cannot exceed an average of 15 characters per inch, as measured on the physical page. (Type size in charts, tables, graphs, and footnotes will not be considered in determining compliance.)

• Text in the Project Narrative cannot exceed 6 lines per vertical inch.

• Paper must be white paper and 8.5 inches by 11.0 inches in size.

• To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

□ The page limit for Appendices stated in the specific funding announcement cannot be exceeded.

To facilitate review of your application, follow these additional guidelines. Failure to adhere to the following guidelines will not, in itself, result in your application being screened out and returned without review. However, the information provided in your application must be sufficient for review. Following these guidelines will help ensure your application is complete, and will help reviewers to consider your application.

□ The 10 application components required for SAMHSA applications should be included.

These are:

• Face Page (Standard Form 424, which is in PHS 5161-1)

• Abstract

• Table of Contents

• Budget Form (Standard Form 424A, which is in PHS 5161-1)

• Project Narrative and Supporting Documentation

• Appendices

• Assurances (Standard Form 424B, which is in PHS 5161-1)

• Certifications (a form in PHS 5161-1)

• Disclosure of Lobbying Activities (Standard Form LLL, which is in PHS 5161-1)

• Checklist (a form in PHS 5161-1)

□ Applications should comply with the following requirements:

• Provisions relating to confidentiality, participant protection and the protection of human subjects, as indicated in the specific funding announcement.

• Budgetary limitations as indicated in Sections I, II, and IV-5 of the specific funding announcement.

• Documentation of nonprofit status as required in the PHS 5161-1.

□ Pages should be typed single-spaced with one column per page.

□ Pages should not have printing on both sides.

□ Please use black ink, and number pages consecutively from beginning to end so that information can be located easily during review of the application. The cover page should be page 1, the abstract page should be page 2, and the table of contents page should be page 3. Appendices should be labeled and separated from the Project Narrative and budget section, and the pages should be numbered to continue the sequence.

□ Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times: Applications must be received by June 10, 2004. You will be notified by postal mail that your application has been received. Additional submission information is available in the INF-04 PA (MOD) in Section IV-3.

4. Intergovernmental Review: The applicant for this funding opportunity must comply with Executive Order 12372 (E.O.12372). E.O.12372, as implemented through Department of Health and Human Services (DHHS) regulation at 45 CFR Part 100, sets up a system for State and local review of applications for Federal financial assistance. Instructions for complying with E.O. 12372 are provided in the INF-04 PA (MOD) in Section IV-4. A current listing of State Single Points of Contact (SPOCs) is included in the application kit and is available at http://www.whitehouse.gov/omb/grants/spoc.html.

5. Funding Restrictions: Information concerning funding restrictions is available in the INF-04 PA (MOD) in Section IV-5.

6. Other Submission Requirements: Instructions for submitting applications, including where and how to send applications, are provided in the INF-04 PA (MOD) in Section IV-6.

V. Application Review Information

1. Evaluation Criteria: The application will be reviewed against the Evaluation Criteria and requirements for the Project Narrative specified in the INF-04 PA (MOD). The following information describes exceptions or limitations to the INF-04 PA (MOD) and provides special requirements that pertain only to the NCTSI-National Center cooperative agreement. The applicant for the NCTSI-National Center cooperative agreement is required to discuss the following requirements in its application, in addition to the requirements specified in the INF-04 PA (MOD):

1.1 In “Section A: Statement of Need”

(a) The applicant's statement of need should specify the current target population of the National Child Traumatic Stress Initiative. Rather than specify a catchment area, the applicant must describe nationwide needs for children experiencing traumatic stress. In addition, the applicant must specify needs within the “target population” of the network. As a leadership and coordinating entity for a national network of grantees, the “target populations” or “target issues” for the NCCTS are (1) the currently funded CTSCs and IDECs in the NCTSN; (2) the current types and mechanisms of collaborative activities taking place within the network; and (3) currently developed interventions for child/adolescent trauma as well as potential new interventions for different types of child trauma and in different service settings.

(b) The applicant must demonstrate familiarity with the needs throughout the network and describe interests and activities in child trauma at existing centers, organizational structure of the network and ongoing collaborative activities, and types of interventions that need to be developed by the NCTSN. The applicant should describe strengths of the current structure of the National Child Traumatic Stress Network, and should also outline areas for potential improvement and suggestions for potential modifications in the upcoming year.

1.2 In “Section B: Proposed Approach”

(a) The applicant must describe how it will provide leadership and support for collaborative activities, including establishing, supporting, and monitoring, collaborative network activities throughout the National Child Traumatic Stress Network.

(b) The applicant must describe how it will conduct national leadership activities, including promoting national attention to child trauma, promoting policy initiatives, and collaborating with national consumer and professional organizations.

(c) The applicant must describe processes to: (1) improve collaborative activity among NCTSN centers; (2) address strategic issues in core network activity areas; and (3) develop, document and promote intervention approaches through a process of standardization, evaluation, and dissemination.

(d) The applicant must describe the activities of the steering committee for the National Child Traumatic Stress network, including membership, roles, functions, and frequency of meetings. If changes from current practice are proposed, these changes must be described.

(e) The applicant must describe strategies for disseminating effective approaches to child trauma through training of professionals, developing training materials and training curricula.

(f) The applicant must describe methods for developing a national media strategy and marketing plan for the National Child Traumatic Stress network that reaches professional and government organizations.

1.3 In “Section C: Staff, Management, and Relevant Experience”

The applicant must describe their experience and expertise in developing the National Child Traumatic Stress Network. If changes in management or staffing are proposed for the upcoming year, these changes must be specifically addressed in the application.

1.4 In “Section D: Evaluation and Data”

(a) The applicant must describe current activities in the areas of data collection, analysis, evaluation, and reporting of findings to SAMHSA and to other grantees within the National Child Traumatic Stress Network. The applicant must indicate a plan for internal “process evaluation” and correction of coordination issues noted in process evaluation.

(b) The applicant must discuss plans to collaborate with SAMSHA staff in the development and implementation of future cross-site evaluation plans. These plans must include attention to SAMHSA GPRA goals, Infrastructure goals, and program-specific goals.

(c) The applicant must discuss plans to collaborate with SAMSHA staff in providing existing data collection materials and developing new data collection materials for approval by the U.S. Office of Management and Budget (OMB), as necessary.

(d) Standardized instruments that have been included in the core data set for clinical data collection do not need to be included in Appendix 2. However, any process evaluation materials or instruments that will be used to assess network development or operation should be included in Appendix 2.

1.5 Performance Measurement

All SAMHSA grantees are required to collect and report certain data, so that SAMHSA can meet its obligations under the Government Performance and Results Act (GPRA). The grantee of the NCTSI-National Center program will be required to report performance in: (1) Increasing the number of children and adolescents reached by improved services; and (2) improving children's outcomes. The applicant must document its ability to collect and report the required data in “Section D: Evaluation and Data” of its application. An instrument will be developed by CMHS staff to report on these indicators.

2. Review and Selection Process: Information about the review and selection process is available in the INF-04 PA (MOD) in Section V-2. Because this is a sole source award, equitable distribution of awards in terms of geographic criteria does not apply.

VI. Award Administration Information

Award administration information, including award notices, administrative and national policy requirements, and reporting requirements are available in the INF-04 PA (MOD) in Section VI. In addition to the reporting requirements stated in the INF-04 PA (MOD), the applicant must provide quarterly progress reports. SAMHSA's standard terms and conditions are available at http://www.samhsa.gov/grants/2004/useful_info.asp.

VII. Agency Contact for Additional Information

For questions about program issues contact: Cecilia Rivera-Casale, Ph.D., Senior Project Officer, Emergency Mental Health and Traumatic Stress Services Branch, Division of Prevention, Traumatic Stress, and Special Programs, SAMHSA/CMHS, 5600 Fishers Lane, Room 15-99, Rockville, MD 20857; 301-443-4735; E-mail: ccasale@samhsa.gov. For questions on grants management issues contact: Ms. Gwendolyn Simpson, SAMHSA/Division of Grants Management, 5600 Fishers Lane, Room 13-103, Rockville, MD 20857; 301-443-4456; E-mail: gsimpson@samhsa.gov.

Dated: April 2, 2004.
Daryl Kade,
Director, Office of Policy, Planning and Budget, Substance Abuse and Mental Health Services Administration.

[FR Doc. 04-7909 Filed 4-7-04; 8:45 am]

BILLING CODE 4162-20-P